DEPARTMENT OF ENERGY

Materials Strategy Request for Information

AGENCY: Department of Energy.

ACTION: Notice of availability of Request for Information (RFI).

SUMMARY: The U.S. Department of Energy (DOE) is seeking information from stakeholders on rare earth elements and other materials used in energy technologies, particularly clean energy components and applications, and energy efficiency technologies.

FOR FURTHER INFORMATION CONTACT: For further information or to obtain a copy of this Request for Information (RFI), please contact DOE at materialstrategy@hq.doe.gov or call 202-586-5800. The RFI is also available on DOE's Web site at http://www.energy.gov.

DATES: Responses to the RFI are due no later than 5 p.m. (EDT) on June 7, 2010.

SUPPLEMENTARY INFORMATION: DOE recently announced its intent to develop a strategic plan for addressing the role of rare earth elements and other materials in energy technologies and processes. The responses to the RFI will help DOE develop a more accurate picture of current and future supply and demand for these materials; identify the potential for supply disruptions; and determine the best policies to promote diverse, sustainable and economical supplies in the future.

Dated: May 5, 2010.
David Sandalow,
Assistant Secretary for Policy and International Affairs, Department of Energy.

[FR Doc. 2010-10980 Filed 5-7-10; 8:45 am]

BILLING CODE 6450-01-P